DEPARTMENT OF THE INTERIOR

National Park Service

Notice of Intent to Repatriate Cultural Items: U.S. Department of the Interior, U.S. Fish and Wildlife Service, Office of Law Enforcement, Albuquerque, NM

AGENCY: National Park Service, Interior.

ACTION: Notice.

Notice is here given in accordance with the Native American Graves Protection and Repatriation Act (NAGPRA), 43 CFR 10.8 (f), of the intent to repatriate cultural items in the possession of the U.S. Department of the Interior, U.S. Fish and Wildlife Service, Office of Law Enforcement, Albuquerque, NM, that meet the definitions of sacred objects and cultural patrimony under 25 U.S.C. 3001.

This notice is published as part of the National Park Service's administrative responsibilities under NAGPRA, 25 U.S.C. 3003 (d)(3). The determinations within this notice are the sole responsibility of the museum, institution, or Federal agency that has control of the cultural items. The National Park Service is not responsible for the determinations within this notice.

The 13 cultural items are 1 bundle that includes an ear of corn and eagle feathers; 2 cylindrical buffalo hide containers or parfleches; 1 felt bag that contains several smaller leather bags of herbs; 1 beaded leather bag; 1 leather bag containing beads; 1 leather bag; 2 stone anthropomorphic figures; 1 headpiece or tablita, consisting of a painted wooden board; and 3 wooden arrow sticks or hair ties, with migratory bird feathers attached.

During 1999 and 2000, the U.S. Department of the Interior, U.S. Fish and Wildlife Service, Office of Law Enforcement, Albuquerque, NM, participated in an undercover investigation of several individuals believed to be engaged in the illegal trafficking of Native American cultural items. Federal agents purchased or seized several cultural items as part of the investigation. On September 10, 2002, Joshua Baer and Thomas Cavaliere each pled guilty to three counts of illegal trafficking of Native American cultural items obtained in violation of 18 U.S.C. 1170 (b). On January 3 and February 12, 2003, the U.S. District Court for the District of New Mexico ordered that all items seized during the investigation be forfeited to the U.S. Department of the Interior, U.S. Fish and Wildlife Service, Office of Law Enforcement, Albuquerque, NM, and repatriated to the culturally affiliated Indian tribes. The 13 cultural items are part of the items forfeited to the U.S. Department of the Interior, U.S. Fish and Wildlife Service, Office of Law Enforcement, Albuquerque, NM.

The U.S. Department of the Interior, U.S. Fish and Wildlife Service, Office of Law Enforcement, Albuquerque, NM, prepared a summary of the cultural items obtained during the investigation. The U.S. Department of the Interior, U.S. Fish and Wildlife Service, Office of Law Enforcement, Albuquerque, NM, also consulted with representatives of the Hopi Tribe of Arizona; Navajo Nation, Arizona, New Mexico & Utah; Pueblo of Acoma, New Mexico; Pueblo of Jemez, New Mexico; Pueblo of Laguna, New Mexico; Pueblo of Santo Domingo, New Mexico; and Zuni Tribe of the Zuni Reservation, New Mexico.

Representatives of the Pueblo of Santo Domingo, New Mexico identified the 13 cultural items as ceremonial objects needed for the practice of traditional religion. They considered the bundle with the ear of corn and eagle feathers to be a very sacred object that was not supposed to be removed from the kiva. Similar bundles have been identified in the anthropological literature as corn mothers that are necessary for a variety of sacred, ritual, political, and social purposes. They identified the two buffalo hide parfleches as being needed to hold medicine items used in religious ceremonies. They identified the two anthropomorphic figures as items necessary for religious purposes. They identified the tablita and hair ties as items worn in particular religious ceremonies.

The representatives of the Pueblo of Santo Domingo, New Mexico identified all 13 cultural items as the communal property of the pueblo as a whole that could not be sold or given away by an individual.

Officials of the U.S. Department of the Interior, U.S. Fish and Wildlife Service, Office of Law Enforcement, Albuquerque, NM, have determined that, pursuant to 25 U.S.C. 3001 (3)(C), the 13 cultural items are specific ceremonial objects needed by traditional Native American religious leaders for the practice of traditional Native American religions by their present-day adherents. Officials of the U.S. Department of the Interior, U.S. Fish and Wildlife Service, Office of Law Enforcement, Albuquerque, NM, have determined that, pursuant to 25 U.S.C. 3001 (3)(D), the 13 cultural items also have ongoing historical, traditional, or cultural importance central to a Native American group or culture itself, rather than property owned by an individual. Officials of the U.S. Department of the Interior, U.S. Fish and Wildlife Service, Office of Law Enforcement, Albuquerque, NM, also have determined that, pursuant to 25 U.S.C. 3001 (2), there is a relationship of shared group identity that can be reasonably traced between the 13 sacred objects/objects of cultural patrimony and the Pueblo of Santo Domingo, New Mexico.

Representatives of any other Indian tribe that believes itself to be culturally affiliated with the sacred objects/objects of cultural patrimony should contact Special Agent Lucinda D. Schroeder, U.S. Fish and Wildlife Service, 4901 Paseo Del Norte, Albuquerque, NM 87113, telephone (505) 828-3064, before August 4, 2003. Repatriation of the sacred objects/objects of cultural patrimony to the Pueblo of Santo Domingo, New Mexico may proceed after that date if no additional claimants come forward.

The U.S. Department of the Interior, U.S. Fish and Wildlife Service, Office of Law Enforcement, Albuquerque, NM, is responsible for notifying the Hopi Tribe of Arizona; Navajo Nation, Arizona, New Mexico & Utah; Pueblo of Acoma, New Mexico; Pueblo of Jemez, New Mexico; Pueblo of Laguna, New Mexico; Pueblo of Santo Domingo, New Mexico; and Zuni Tribe of the Zuni Reservation, New Mexico that this notice has been published.

Dated: May 27, 2003.
John Robbins,
Assistant Director, Cultural Resources.

[FR Doc. 03-16808 Filed 7-2-03; 8:45 am]

BILLING CODE 4310-70-S